DEPARTMENT OF VETERANS AFFAIRS

Research Advisory Committee on Gulf War Veterans' Illnesses, Notice of Meeting

The Department of Veterans Affairs (VA) gives notice under the Federal Advisory Committee Act, 5 U.S.C. ch. 10., that the Research Advisory Committee on Gulf War Veterans' Illnesses will meet at the Texas Medical Center (TMC3) Collaborative Research Building, 7255 Helix Park Avenue, Houston, Texas 77030 in the Braeswood Conference Room. The meeting sessions will begin and end as follows:

Date | Time: central time zone (CT)
November 20, 2024 | 9:00 a.m.-11:00 a.m.
November 21, 2024 | 9:00 a.m.-4:00 p.m.

All sessions will be open to the public.

For interested parties who cannot attend in person, this meeting will also be available by videoconference via Webex at the following URLs:

November 20, 2024, 9:00 a.m. to 11:00 a.m. CT/10:00 a.m. to 12:00 p.m. Eastern Time (ET).

https://veteransaffairs.webex.com/veteransaffairs/j.php?MTID=m23d1937150485cf9c694dedf22d63eba. Or, join by phone: 1-833-558-0712 Toll-free; meeting number (access code): 2823 562 7625. Meeting password: GWvets1990!

November 21, 2024, 9:00 a.m. to 4:00 p.m. CT/10:00 a.m. to 5:00 p.m. ET. https://veteransaffairs.webex.com/veteransaffairs/j.php?MTID=m2a78279f6126cfbfc4a9e221933c3464. Or, join by phone: 1-833-558-0712 Toll-free; meeting number (access code): 2818 042 3790. Meeting password: GWvets1991!

The purpose of the Committee is to provide advice and make recommendations to the Secretary of Veterans Affairs on proposed research studies, research plans, and research strategies relating to the health consequences of military service in the Southwest Asia theater of operations during the Gulf War in 1990-91.

On November 20-21, 2024, the Committee will welcome new members and review Gulf War Program updates and Committee recommendations.

The meeting will include time reserved for public comments before the meeting closes on November 21, 2024. As time is limited, individuals wishing to make public comments can contact VARACGWVI@va.gov in advance to reserve time during the public comment period or submit written comments (max. 2-pages). Each public comment speaker will be held to a 3-5 minute time limit as time permits. Individuals wishing to seek additional information should contact Dr. Karen Block, Designated Federal Officer, at Karen.Block@va.gov.

Dated: October 21, 2024.
LaTonya L. Small,
Federal Advisory Committee Management Officer.

[FR Doc. 2024-24765 Filed 10-23-24; 8:45 am]

BILLING CODE 8320-01-P